NATIONAL COUNCIL ON DISABILITY

Sunshine Act Meetings

TIME AND DATES: The Members of the National Council on Disability (NCD) will hold a quarterly meeting on Thursday and Friday, May 11 and 12, 2017 in New Orleans, Louisiana, from 9:00 a.m.-4:15 p.m., Central Time, on Thursday, May 12; and from 9:00 a.m.-12:30 p.m., Central Time, on Friday, May 12.

PLACE: The meeting will occur at the Hyatt Regency New Orleans, 601 Loyola Ave, New Orleans, LA 70113. Interested parties may join the meeting in person at the meeting location or may join by phone in a listening-only capacity (other than the period allotted for public comment noted below) using the following call-in information: Teleconference number: 1-888-510-1765; Conference ID: 8901617; Conference Title: NCD Meeting; Host Name: Clyde Terry.

MATTERS TO BE CONSIDERED: The Council will receive presentations on the connection between disability and poverty; progress on its 2017 disability policy progress report to Congress and the President; charter schools and vouchers in the context of IDEA; and on work on the agency updated strategic plan framework. The Council will also receive agency updates on finance, governance, and other business. The Council will receive public comment on charter schools and vouchers in the context of IDEA. Finally, the Council will discuss its FY 2018 policy priorities for potential future projects.

AGENDA: The times provided below are approximations for when each agenda item is anticipated to be discussed (all times Central):

Thursday, May 11

9:00-9:30 a.m.—Welcome and Introductions

9:30-10:15 a.m.—(Panel Presentation) Connection between Disability and Poverty in Louisiana

10:15-10:30 a.m.—Break

10:30-11:15 a.m.—2017 Progress Report Presentation

11:15-11:45 a.m.—Council Discussion on 2017 Progress Report

Recommendations

11:45 a.m.-1:15 p.m.—Lunch Break

1:15-2:00 p.m.—(Panel Presentation) Charter Schools and Vouchers in the Context of the Individuals with Disabilities Education Act (IDEA)

2:00-2:30 p.m.—Town hall to receive comments on charter schools and vouchers in the context of IDEA

2:30-2:45 p.m.—Break

2:45-4:15 p.m.—Discussion of NCD's Updated Strategic Plan Framework

4:15 p.m.—Adjournment

Friday, May 12

9:00-11:15 a.m.—FY2018 Policy Priorities Discussion

11:15-11:30 a.m.—Break

11:30 a.m.-12:30 p.m.—NCD business meeting

12:30 p.m.—Adjournment

PUBLIC COMMENT: To better facilitate NCD's public comment, any individual interested in providing public comment is asked to register his or her intent to provide comment in advance by sending an email to PublicComment@ncd.gov with the subject line “Public Comment” with your name, organization, state, and topic of comment included in the body of your email. Full-length written public comments may also be sent to that email address. All emails to register for public comment at the quarterly meeting must be received by Wednesday, May 10, 2017. Priority will be given to those individuals who are in-person to provide their comments during the town hall portions of the agenda. Those commenters on the phone will be called on per the list of those registered via email. Due to time constraints, NCD asks all commenters to limit their comments to three minutes. Comments received at the May quarterly meeting will be limited to those regarding charter schools and vouchers in the context of IDEA.

CONTACT PERSON: Anne Sommers, NCD, 1331 F Street NW., Suite 850, Washington, DC 20004; 202-272-2004 (V), 202-272-2074 (TTY).

ACCOMMODATIONS: A CART streamtext link has been arranged for this teleconference meeting. The web link to access CART on both Thursday and on Friday, May 12-13, 2017 is: https://www.streamtext.net/player?event=NCD.

Those who plan to attend the meeting in-person and require accommodations should notify NCD as soon as possible to allow time to make arrangements. To help reduce exposure to fragrances for those with multiple chemical sensitivities, NCD requests that all those attending the meeting in person refrain from wearing scented personal care products such as perfumes, hairsprays, and deodorants.

Dated: April 24, 2017.
Rebecca Cokley,
Executive Director.

[FR Doc. 2017-08542 Filed 4-24-17; 4:15 pm]

BILLING CODE 8421-03-P